DEPARTMENT OF COMMERCE

Foreign-Trade Zones Board

[S-12-2023]

Foreign-Trade Zone 18—San Jose, California; Application for Expansion of Subzone 18F; Lam Research Corporation; Stockton, California

An application has been submitted to the Foreign-Trade Zones (FTZ) Board by the City of San Jose, grantee of FTZ 18, requesting an expansion of Subzone 18F on behalf of Lam Research Corporation, located in Stockton, California. The application was submitted pursuant to the provisions of the Foreign-Trade Zones Act, as amended (19 U.S.C. 81a-81u), and the regulations of the FTZ Board (15 CFR part 400). It was formally docketed on January 9, 2023.

The applicant is now requesting to expand Subzone 18F to include an additional site: Site 18 (30 acres) is located at 4512 Frontier Way, Stockton, San Joaquin County. The expanded subzone would be subject to the existing activation limit of FTZ 18.

In accordance with the FTZ Board's regulations, Qahira El-Amin of the FTZ Staff is designated examiner to review the application and make recommendations to the Executive Secretary.

Public comment is invited from interested parties. Submissions shall be addressed to the FTZ Board's Executive Secretary and sent to: ftz@trade.gov. The closing period for their receipt is February 22, 2023. Rebuttal comments in response to material submitted during the foregoing period may be submitted during the subsequent 15-day period to March 9, 2023.

A copy of the application will be available for public inspection in the “Online FTZ Information Section” section of the FTZ Board's website, which is accessible via www.trade.gov/ftz.

For further information, contact Qahira El-Amin at Qahira.El-Amin@trade.gov.

Dated: January 9, 2023.
Elizabeth Whiteman,
Acting Executive Secretary.

[FR Doc. 2023-00565 Filed 1-12-23; 8:45 am]

BILLING CODE 3510-DS-P